EQUAL EMPLOYMENT OPPORTUNITY COMMISSION

Notice of EEOC Guidance Portal

AGENCY: Equal Employment Opportunity Commission.

ACTION: Notice of availability.

SUMMARY: Pursuant to Executive Order 13891 and OMB Memorandum M-20-02, the Equal Employment Opportunity Commission (EEOC) is noticing the February 28, 2020 launch of a single, searchable, indexed database containing all EEOC guidance documents currently in effect.

DATES: Effective February 28, 2020.

ADDRESSES: www.eeoc.gov/guidance.

FOR FURTHER INFORMATION CONTACT: For website content issues, contact Raymond Peeler, Assistant Legal Counsel, Office of Legal Counsel, (202) 663-4537 or raymond.peeler@eeoc.gov.

For website access issues, contact Adam Guasch-Melendez, IT Specialist, Office of Communications & Legislative Affairs, (202) 663-4632 or adam.guasch@eeoc.gov.

SUPPLEMENTARY INFORMATION: Section 3 of Executive Order 13891 requires federal agencies to “establish or maintain on its website a single, searchable, indexed database that contains or links to all guidance documents in effect from such agency or component.” Executive Order 13891, 84 FR 55,235 (October 9, 2019).

Question 1 of OMB Memorandum M-20-02 further requires agencies to “send to the Federal Register a notice announcing the existence of the new guidance portal and explaining that all guidance documents remaining in effect are contained on the new guidance portal.” OMB Memorandum M-20-02 (October 31, 2019).

In compliance with the above, the EEOC is noticing the availability of a single, searchable, indexed database containing all EEOC guidance documents currently in effect, which may be accessed at www.eeoc.gov/guidance on or after February 28, 2020.

(Authority: E.O. 13891, 84 FR 55,235; OMB Memorandum M-20-02.)

Janet Dhillon,
Chair.

[FR Doc. 2020-03300 Filed 2-19-20; 8:45 am]

BILLING CODE 6570-01-P